DEPARTMENT OF JUSTICE

Notice of Lodging of Consent Decree Under the Clean Air Act

Pursuant to 28 CFR 50.7, notice is hereby given that on September 20, 2007, a proposed consent decree in United States v. Richmond American Homes of Arizona, Inc., Civil No. CIV-07-1796-PHX-LOA, was lodged with the United States District Court for the District of Arizona.

This Consent Decree will address claims asserted by the United States in a complaint filed contemporaneously with the Consent Decree against Richmond American Homes of Arizona, Inc. (Richmond American) for civil penalties and injunctive relief under section 113(b) of the Clean Air Act (the Act), 42 U.S.C. 7413(b), for failure to install suitable trackout control devices, failure to immediately clean up trackout, failure to implement dust control measures, and failure to operate water application while conducting earthmoving in violation of Rule 2 Regulation 1, and Rule 310 of Regulation 3 of the Maricopa County Air Quality Department (MCAQD) which are part of the federally approved and federally enforceable State Implementation Plan (SIP) submitted to EPA by the State of Arizona pursuant to section 110 of the Act, 42 U.S.C. 7410.

The proposed Consent Decree provides for the payment of $155,000 in civil penalties. The Consent Decree also includes measures designed to abate fugitive dust emissions which include installation of trackout control devices at its work sites; employing a dust control monitor at sites with 50 acres or more of surface; and requiring dust control training for employees and certain employees of sub-contractors whose job responsibilities involve dust generating operations.

The Department of Justice will receive for a period of thirty (30) days from the date of the publication comments relating to the Consent Decree. Comments should be addressed to the Assistant Attorney General, Environment and Natural Resources Division, P.O. Box 7611, U.S. Department of Justice, Washington, DC 20044-7611, and should refer to United States v. Richmond American Homes of Arizona, Inc., D.J. Ref. 90-5-2-1-08574.

The Consent Decree may be examined at the Office of the United States Attorney for the District of Arizona, Two Renaissance Square, 40 N. Central Avenue, Suite 1200, Phoenix, Arizona 85004-4408, and at U.S. Environmental Protection Agency, Region 9, Office of Regional Counsel, 75 Hawthorne Street, San Francisco, California 94105. During the public comment period, the Consent Decree may also be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $4.75 (25 cents per page reproduction cost) payable to the U.S. Treasury.

Henry Friedman,
Assistant Chief, Environmental Enforcement Section, Environment and Natural Resources Division.

[FR Doc. 07-5027 Filed 10-11-07; 8:45 am]

BILLING CODE 4410-15-M